DEPARTMENT OF AGRICULTURE

Forest Service

Lake Project; Manti-La Sal National Forest, Emery and Sanpete Counties, UT

AGENCY: Forest Service, USDA;

ACTION: Notice of intent to prepare Environmental Impact Statement.

Authority: The National Environmental Policy Act of 1969 (NEPA), as amended (42 U.S.C. 4321-4346); Council on Environmental quality Regulations, title 40, Code of Federal Regulations, parts 1500-1508 (40 CFR parts 1500-1508); and U.S. Department of Agriculture NEPA Regulations, part 1b (7 CFR part 1b).

SUMMARY: Epidemic populations of spruce beetle are found on the Wasatch Plateau. Many susceptible spruce-fir stands have been infested, and it is anticipated that many more will soon be infested with spruce beetle populations. The beetle populations could collapse due to natural factors, but at this time the populations remain viable and continue to spread. Scattered 3-5 tree pockets of spruce beetle caused mortality are present in the Lake project analysis area and if the current level of beetle activity continues without check, it is probable that most of the spruce-fir component on the Wasatch Plateau would be lost. The beetles have already caused severe impacts on several thousand acres of spruce-fir stands adjacent to and south of the analysis area. As a consequence, most spruce trees over eight inches in diameter in the area to the south are dead or dying, and in some areas nearly all spruce are dead as a result of the beetle epidemic. The insects are continuing to move in a northward direction and it is anticipated they will continue to invade, infest, and kill most of the spruce trees eight inches and larger in diameter throughout this analysis area, as was the case in the adjacent spruce-fir stands to the south. The Forest Service will prepare an Environmental Impact Statement (EIS) to document the analysis and disclose the environmental impacts of proposed actions to salvage dead, insect infested and dying trees, commercially thin live high risk trees, manage natural and prescribed burning, and restock some stands of trees located in the Spring, and the north and south forks of Lake Canyon drainages within the project analysis area. The project area is located on public lands administered by the Ferron/Price Ranger District approximately 20 miles northwest of Huntington, Utah. It is bordered on the north by State highway 31 located in Huntington Canyon, on the west by Skyline Drive, Forest Service Road 50150, on the east by the Millers Flat road, Forest Service Road 50014, and on the south at the ridge between South Fork Lake and Rolfson canyons.

The need for the proposal is to:

• Restore and maintain composition, structure, and diversity by providing for tree species and stand density levels that are lower in stocking and more diverse;

• Facilitate rapid reestablishment of Engelmann spruce through replanting of spruce;

• Enhance the aspen communities that are being lost due to conifer invasion/encroachment and lack of natural fire;

• Contribute to a timber resource supply that helps meet National demand for forest products and recover some of the economic loss of the resource from the dead, dying, insect infested and high-risk green trees;

• Improve public safety by removing hazard trees from roadsides and from dispersed camping areas within the project area.

Portions of the Rolfson-Staker Inventoried Roadless Area are located within the analysis area but are not included in the Proposed Action. The No Action is one alternative that will be considered. Additional alternatives will be formulated based on public issues, and response analysis.

The proposed action involves harvesting/salvaging approximately 3.7 MMBF (Million Board Feet) of dead, dying, insect infested and high-risk green trees from approximately 820 acres within an analysis area of about 5,600 acres. Harvest of trees would be by both aerial (helicopter) and ground based (tractor) methods. Helicopter logging would be used to access approximately 500 acres, and tractor logging would be used to access approximately 320 acres. Approximately 135 acres are proposed for artificial reforestation (hand planting of seedlings) and 145 acres would be open to natural regeneration. Approximately 80 acres of aspen stands would be regenerated by removal of aspen and competing conifer species in clear-cut patches up to 10 acres in size. Other aspen stands would be enhanced by removing conifer trees from within and adjacent to the stands. Approximately 145 acres will be broadcast burned. Road work anticipated includes approximately: 2.1 miles of road reconstruction, 0.8 mile of new road construction and use of approximately 0.25 miles of temporary road. After the project is completed, approximately 2.8 miles of existing Forest Service Roads are proposed to remain open and be maintained. Approximately four temporary helicopter landing one acre in size and eleven temporary tractor landings of ¼ acre in size would be needed during the logging operation. The proposed action does not include road construction, reconstruction, or logging in the inventoried roadless area.

DATES: Written comments concerning the scope of the analysis described in this notice should be received within 30 days of the date of publication of this notice in the Federal Register.

ADDRESSES: Send written comments to Manti-La Sal National Forest, 599 West Price River Drive, Price Utah 84501.

FOR FURTHER INFORMATION CONTACT: Questions concerning the proposed action and EIS should be addressed to Alan Lucas, Forester, Manti-La Sal National Forest, phone (435) 636-3328.

SUPPLEMENTARY INFORMATION: This project was previously proposed in the spring of 2001, with a Notice of Intent to Prepare an Environmental Impact Statement published on May 4, 2001 (Federal Register/Vol. 66, No. 87, pages 22513-22514). The original purpose of need, and proposed actions have been modified to respond to new information. This EIS will tier to the final EIS for the Manti-La Sal National Forest Land and Resource Management Plan (Forest Plan). The Manti-La Sal Forest Plan provides the overall guidance (Goals, Objectives, Standards, and Management Area Direction) to achieve the Desired Future Condition for the area being analyzed, and contains specific management area prescriptions for the entire Forest.

The Forest Service is seeking information and comments from Federal, State, and local agencies as well as individuals and organizations that may be interested in, or affected by the proposed action. The Forest Services invites written comments and suggestions on the issues related to the proposal and the area being analyzed. Information received will be used in preparation of the Draft EIS and Final EIS. For most effective use, comments should be submitted to the Forest Service within 30 days from the date of publication of this notice in the Federal Register.

The Ferron/Price Ranger District of the Manti-La Sal National Forest in Emery and Sanpete Counties in the state of Utah would administer the proposed management activities for this analysis. Agency representatives and other interested people are invited to visit with Forest Service officials at any time during the EIS process. Two specific time periods are identified for the receipt of formal comments on the analysis. The two comment periods are: (1) During the scoping process, the next 30 days following publication of this notice in the Federal Register, and (2) during the formal review period of the Draft EIS.

The comment period on the draft environmental impact statement will be 45 days from the date the Environmental Protection Agency publishes the notice of availability in the Federal Register. The Forest Service believes it is important to give reviewers notice at this early stage of several court rulings related to public participation in the environmental review process. First, reviewers of draft environmental impact statements must structure their participation in the environmental review of the proposal so that it is meaningful and alerts an agency to the reviewers' position and intentions.

Vermont Yankee Nuclear Power Corp. v. NRDC, 435 U.S. 519,553 (1978). Also, environmental objections that could be raised at the draft environmental impact statement stage but that are not raised until after completion of the final environmental impact statement may be waved or dismissed by the courts.

City of Angoon v. Hodel, 803 F. 2d 1016, 1022 (9th Circuit, 1986) and Wisconsin Heritages, Inc. v. Harris, 490 F. Supp. 1334, 1338 (E.D. Wis 1980). Because of these court rulings, it is very important that those interested in this proposed action participate by the close 45-day comment period so that substantive comments and objections are made available to the Forest Service at a time when it can meaningfully consider them and respond to them in the final Environmental Impact Statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act, 40 CFR 1503.3 in addressing these points.

The final release of the EIS is projected to be September 12, 2003. The Forest Supervisor for the Manti-La Sal National Forest is the responsible official for the EIS. After considering the comments, responses, and environmental consequences discussed in the Final Environmental Impact Statement, and applicable laws, regulations, and policies a decision by this official will be made regarding the proposal. The reasons for the decision will be documented in a Record of Decision. The Forest Supervisor's office of the Manti-La Sal National Forest is located at 599 West Price River Drive, Price, Utah 84501, phone: 435-637-2817.

Dated: January 13, 2003.
Elaine J. Zieroth,
Forest Supervisor, Manti-La Sal National Forest.

[FR Doc. 03-3104 Filed 2-6-03; 8:45 am]

BILLING CODE 3410-11-M